DEPARTMENT OF COMMERCE

Bureau of Industry and Security

15 CFR Part 744

[Docket No. 220627-0141]

RIN 0694-AI88

Addition of Entities, Revision and Correction of Entries, and Removal of Entities From the Entity List

AGENCY: Bureau of Industry and Security, Department of Commerce.

ACTION: Final rule.

SUMMARY: In this rule, the Bureau of Industry and Security (BIS) amends the Export Administration Regulations (EAR) by adding 36 entities under 41 entries to the Entity List. These 36 entities have been determined by the U.S. Government to be acting contrary to the national security or foreign policy interests of the United States. These entities will be listed on the Entity List under the destinations of the People's Republic of China (China), Lithuania, Pakistan, the Russian Federation (Russia), Singapore, the United Arab Emirates (UAE), the United Kingdom, Uzbekistan, and Vietnam. Some entities are added under multiple entries, accounting for the difference in the total number of entities and entries in this rule. This rule also revises eleven existing entries under the destinations of Belarus, China, Russia, and Slovakia and corrects one existing entry on the Entity List under the destination of Pakistan. Lastly, this rule removes two entities and one address for a non-listed entity, consisting of one removal of an entity and one removal of an address under the destination of China, and one removal under the destination of Pakistan. The removals from the Entity List are made in connection with requests for removal that BIS received pursuant to the EAR and a review of the information provided in those requests.

DATES: This rule is effective on June 28, 2022.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the EAR) identifies entities for which there is reasonable cause to believe, based on specific and articulable facts, that the entities have been involved, are involved, or pose a significant risk of being or becoming involved in activities contrary to the national security or foreign policy interests of the United States. The EAR (15 CFR parts 730-774) impose additional license requirements on and limit the availability of most license exceptions for exports, reexports, and transfers (in-country) to listed entities.

The license review policy for each listed entity is identified in the “License Review Policy” column on the Entity List, and the impact on the availability of license exceptions is described in the relevant Federal Register document that added the entity to the Entity List. Any license application for an export, reexport, or transfer (in-country) involving an entity on the Entity List that is subject to an additional EAR license requirement will also be reviewed in accordance with the license review policies in the sections of the EAR applicable to those license requirements. For example, for Russian entities on the Entity List, if the export, reexport, or transfer (in-country) is subject to a license requirement in § 746.6, 746.8 or 746.10, the license application will be reviewed in accordance with the license review policies in those sections (as applicable) in addition to the specified license review policy under the Entity List entry.

BIS places entities on the Entity List pursuant to part 744 (Control Policy: End-User and End-Use Based) and part 746 (Embargoes and Other Special Controls) of the EAR. Paragraphs (b)(1) through (5) of § 744.11 include an illustrative list of activities that could be contrary to the national security or foreign policy interests of the United States.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Entity List Decisions

A. Additions to the Entity List

The ERC determined to add the following six entities under ten entries to the Entity List on the basis of § 744.11(b) and under the destinations of China, Lithuania, Russia, the United Kingdom, Uzbekistan, and Vietnam: Connec Electronic Ltd. (added under China and the United Kingdom); King Pai Technology Co., Ltd. (added under China, Russia, and Vietnam); Sinno Electronics Co., Ltd. (added under China and Lithuania); Winninc Electronic (added under China); World Jetta (H.K.) Logistics Limited (added under China); and Promcomplektlogistic Private Company (added under Uzbekistan) for providing support to Russia's military and/or defense industrial base. Specifically, these entities have previously supplied items to Russian entities of concern before February 24, 2022 and continue to contract to supply Russian entity listed and sanctioned parties after Russia's further invasion of Ukraine. This activity is contrary to U.S. national security and foreign policy interests under § 744.11(b) of the EAR. These six entities and their identified subsidiaries are added to the Entity List with a license requirement for all items subject to the EAR. BIS will review license applications for items for these entities under a policy of denial apart from food and medicine designated as EAR99, which will be reviewed on a case-by-case basis. No license exceptions are available for exports, reexports, or transfers (in-country) to these entities.

The ERC determined to add the following twelve entities to the Entity List on the basis of § 744.11(b) under the destination of China: At One Electronics; Blueschip Company Limited; Chen Zhouqian; Chipwinone Electronics; Chuangxinda Electronics-Tech Co., Ltd.; Ehang International Trade Limited; Gaohui HK Electronics; ICSOSO Electronics Company Limited; Shenzhen Avanlane; Suntric Company Limited; Wayne Weipeng; and Yiru Zhuang for their activities contrary to the national security and foreign policy interests of the United States. Specifically, these entities use deceptive practices to supply or attempt to supply Iran with U.S-origin electronics that would ultimately provide support to Iran's military. These entities are added to the Entity List with a license requirement for all items subject to the EAR. BIS will review license applications for items for these entities under a presumption of denial. No license exceptions are available for exports, reexports, or transfers (in-country) to these entities.

The ERC determined to add eight entities under nine entries to the Entity List on the basis of § 744.11(b) under the destinations of China and Singapore, with one of the entities listed under both destinations. The entities are as follows: Beijing Highlander Digital Technology Co. Ltd (added under China and Singapore); China Academy of Science—Shenyang Institute of Automation; China State Shipbuilding Corp.—Systems Engineering Research Institute; CSSC Electronic Technology; Highlander (Hong Kong) Maritime Navigation Science and Technology LLC; Laurel Technologies Co. Ltd.; Sansha Highlander Marine Information Technology Co. Ltd.; and Sanya Highlander Huanyu Ocean Information Technology Corporation. All of the eight entities are added to the Entity List for acquiring and attempting to acquire U.S.-origin items in support of military applications, contrary to the national security or foreign policy interests of the United States. These entities are added to the Entity List with a license requirement for all items subject to the EAR. BIS will review license applications for items for these entities under a presumption of denial. No license exceptions are available for exports, reexports, or transfers (in-country) to these entities.

The ERC determined to add two entities to the Entity List on the basis of § 744.11(b) under the destination of Russia: Laboratory Systems and Technologies LTD; and Intertech Rus LLC. The two entities are added on the basis of their attempts to procure items, including U.S.-origin items, for activities contrary to the national security and foreign policy interests of the United States. Specifically, Intertech Rus LLC and Laboratory Systems and Technologies LTD are acting as agents, fronts or shell companies for OOO Intertech Instruments, an entity added to the Entity List under the destination of Russia on March 4, 2021 (86 FR 12531). The two entities are added to the Entity List with a license requirement for all items subject to the EAR. BIS will review license applications for items for these entities under the license review policies specified in §§ 744.2(d) (restrictions on certain nuclear end-uses), 744.3(d) (restrictions on certain rocket systems and unmanned aerial vehicles end-uses), and 744.4(d) (restrictions on certain chemical and biological weapons end-uses) of the EAR. No license exceptions are available for exports, reexports, or transfers (in-country) to these entities.

The ERC determined to add two entities to the Entity List on the basis of § 744.11(b) under the destination of Russia: FASTAIR and Avcom-Technique. These two entities are added for actions contrary to the national security and foreign policy interests of the United States. These entities are added to the Entity List with a license requirement for all items subject to the EAR. BIS will review license applications for items for these entities under a case-by-case license review policy. No license exceptions are available for exports, reexports, or transfers (in-country) to these entities.

The ERC determined to add four entities to the Entity List on the basis of §§ 744.11(b), 744.2 and 744.3, including one entity under the destination of the United Arab Emirates (UAE): Gulf Trade House FZC; and three entities under the destination of Pakistan: Industrial Process Automation; Jim Corporation; and Maira Trade International. The four entities are added for actions contrary to the national security or foreign policy interests of the United States, and because these entities pose an unacceptable risk of using or diverting items subject to the EAR to certain nuclear end-uses and certain rocket systems and unmanned aerial vehicles end-uses. These entities are added to the Entity List with a license requirement for all items subject to the EAR. BIS will review license applications for items for these entities under a presumption of denial. No license exceptions are available for exports, reexports, or transfers (in-country) to these entities.

The ERC determined to add one entity to the Entity List on the basis of § 744.11(b) under the destination of the UAE: Al Noor Alaili Trading Company (ANATCO). This entity is added for preventing the accomplishment of an End Use Check (EUC) by precluding access to, refusing to provide information to, and/or providing false or misleading information about parties to the transaction or the item to be checked. This entity is added to the Entity List with a license requirement for all items subject to the EAR. BIS will review license applications for items for this entity under a presumption of denial. No license exceptions are available for exports, reexports, or transfers (in-country) to this entity.

The ERC determined to add the following one entity to the Entity List on the basis of § 744.11(b) under the destination of the UAE: Scott Technologies FZE, for acquiring and attempting to acquire U.S.-origin items on behalf of entities listed on the Entity List, in circumvention of the licensing requirements set forth in § 744.11 of the EAR. Specifically, the entity was added for re-exporting aircraft parts to Syria. This entity will be added to the Entity List with a license requirement for all items subject to the EAR. BIS will review license applications for items for this entity under a presumption of denial. No license exceptions are available for exports, reexports, or transfers (in-country) to this entity.

For the reasons described in section A of the Supplementary Information, this final rule adds the following entities under to the Entity List including, where appropriate, aliases:

China

• At One Electronics;

• Beijing Highlander Digital Technology Co. Ltd;

• Blueschip Company Limited;

• Chuangxinda Electronics-Tech Co.,

• Chen Zhouqian;

• China Academy of Science—Shenyang Institute of Automation;

• China State Shipbuilding Corp.—Systems Engineering Research Institute;

• Chipwinone Electronics Co., Limited;

• Connec Electronic Ltd.;

• CSSC Electronic Technology;

• Ehang International Trade Limited;

• Gaohui HK Electronics;

• Highlander (Hong Kong) Maritime Navigation Science and Technology LLC;

• ICSOSO Electronics Co. Ltd.;

• King Pai Technology Co., Ltd.;

• Laurel Technologies Co. Ltd.;

• Sansha Highlander Marine Information Technology Co. Ltd.;

• Sanya Highlander Huanyu Ocean Information Technology Corporation;

• Shenzhen Avanlane;

• Sinno Electronics Co., Ltd.;

• Suntric Company Limited;

• Wayne Weipeng;

• Winninc Electronic;

• World Jetta (H.K.) Logistics Limited; and

• Yiru Zhuang.

Lithuania

• Sinno Electronics.

Pakistan

• Industrial Process Automation;

• Jim Corporation; and

• Maira Trade International.

Russia

• Avcom-Technique;

• FASTAIR;

• Intertech Rus LLC;

• KingPai Technology Int'l Co., Limited; and

• Laboratory Systems and Technologies LTD.

Singapore

• Beijing Highlander Digital Technology Co., Ltd.

United Arab Emirates

• Al Noor Alaili Trading Company;

• Gulf Trade House FZC; and

• Scott Technologies FZE.

United Kingdom

• Connec Electronic.

Uzbekistan

• Promcomplektlogistic Private Company.

Vietnam

• KingPai Technology Int'l Co., Limited.

B. Revisions to the Entity List

This final rule revises eleven existing entries, under the destinations of Belarus, China, Russia, and Slovakia.

This rule revises nine entries, consisting of one entry for “JSC Integral,” first added to the Entity List under the destination of Belarus on March 2, 2022 (87 FR 13061, March 8, 2022); seven entries under Russia consisting of “Avant-Space LLC,” first added to the Entity List on March 3, 2022 (87 FR 13143, March 9, 2022)(the “March 9 rule”); “Elara,” first added to the Entity List in the March 9 rule; “JSC Central Research Institute of Machine Building,” first added to the Entity List on February 24, 2022 (87 FR 12240, March 3, 2022) (the “March 3 rule”); “JSC Element,” first added to the Entity List in the March 9 rule; “JSC Rocket and Space Centre,” first added to the Entity List in the March 3 rule; “Russian Space Systems (RKS),” first added to the Entity List in the March 9 rule; “Scientific Research Institute NII Submikron,” first added to the Entity List in the March 9 rule; and one entry for “Incoff Aerospace, S.R.O.,” first added to the Entity List under the destination of Slovakia in the March 9 rule. This rule revises the License Requirement column for some of the nine entities to specify that License Exception GOV under § 740.11(b)(2) and (e) may be available for use to export items to these entities. This rule also revises the License Review Policy column for all nine entities to specify that there is a case-by-case license review policy for items destined for use in U.S. government supported use in the International Space Station (ISS).

These nine entities are integral to supporting the International Space Station (ISS), therefore the ERC determined it was warranted to allow the License Exception GOV authorizations under paragraphs (b)(2) and (e) to be available and to have a case-by-case license review policy for U.S. Government supported use in the International Space Station. This rule revises both the License Requirement column and License Review Policy column for JSC Central Research Institute of Machine Building. For the other eight entities revised by this rule, only one of the two columns needed to be revised. Specifically, this rule revises the License Requirement column for Incoff Aerospace LLC; JSC Element; and Russian Space Systems (RKS) and revises the License Review Policy Column for Avant-Space LLC; Elara; JSC Integral; JSC Rocket and Space Centre; and Scientific Research Institute NII Submikron.

This rule revises one existing entry for “China National Offshore Oil Corporation Ltd.,” first added to the Entity List under the destination of China on January 14, 2021 (85 FR 4864). Specifically, this rule removes the phrase “not operating in the South China Sea” and adds in its place the phrase “not operating in any body of water, or the airspace above any body of water, within the following coordinates:

Upper Left:

26°4′48.931″ N

104°31′41.383″ E

Upper Right:

26°4′48.931″ N

123°19′22.225″ E

Lower Right:

0°0′0.00″ N

123°19′22.225″ E

Lower Left:

0°0′0.00″ N

104°31′41.383″ E

The following is an illustration with an approximate representation of these coordinates to assist the public in understanding the applicability of the license requirement for this entity:

BILLING CODE 3510-33-P

BILLING CODE 3510-33-C

BIS has received numerous questions from the public on how to interpret this limitation on the exclusion from the license requirement for this entry. After reviewing these questions and evaluating various options for clarifying the scope of this limitation, the ERC determined that the best approach to facilitate compliance, consistent with U.S. national security and foreign policy interests, is to use coordinates that form a geographic box such that any body of water (e.g., the South China Sea, the Celebes Sea, the Sulu Sea) that falls within these coordinates, as well as the airspace above any such body of water, will be subject to the limitation on the exclusion from the license requirement. This modification provides greater clarity, thus reducing the compliance burden on the public.

In response to questions received about the entity name, BIS makes an additional revision to the entry to clarify that the entity listed on the Entity List is CNOOC Limited, which is a core subsidiary of China National Offshore Oil Corporation (CNOOC Group). While the parent entity, CNOOC Group, is not listed on the Entity List, BIS recommends that due diligence should be conducted by exporters, reexporters, and transferors when dealing with CNOOC Group to determine whether there is any “knowledge,” as it is defined in part 772 of the EAR, that an item subject to the EAR may be destined to CNOOC Limited or to any other entity listed on the Entity List. The rule also makes minor typographical corrections to clarify the regulatory text.

This rule also modifies the entry for the National University of Defense Technology (NUDT), which was first added to the Entity List under the destination of China on February 18, 2015 (80 FR 8527). This final rule adds three additional addresses and two additional aliases to the entry.

C. Correction to the Entity List

This final rule implements corrections to one existing entry on the Entity List. The correction is under the destination of Pakistan for the entity X-Cilent Engineering. This entity was added to the Entity List on February 14, 2022 (87 FR 8182). This final rule corrects the punctuation of this entity's address.

D. Removals From the Entity List

This rule implements decisions of the ERC to remove two entities and one address for a non-listed entity from the Entity List, as described below.

This rule implements a decision of the ERC to remove “Nanchang O-Film Tech.”, an entity located in China, from the Entity List on the basis of a removal request. The entry for Nanchang O-Film Tech. under the destination of China was added to the Entity List on July 22, 2020 (85 FR 44166). The ERC decided to remove this one entity based on information BIS received pursuant to § 744.16(e) of the EAR and the review the ERC conducted in accordance with procedures described in supplement no. 5 to part 744 of the EAR.

This rule also implements a decision of the ERC to remove one address associated with Oriental Logistics Group LTD, specifically, 10/F, Union Bldg, 112 How Ming, Kwun Tong, Kowloon, Hong Kong from the Entity List, because this address does not belong to Oriental Logistics Group LTD. Rather, it belongs to Oriental Logistics Group Ltd., which has a similar name, but is a different legal entity and is not on the Entity List. The ERC determined that Oriental Logistics Group LTD is not located at this address, and therefore has decided to remove this address from the entry. Two entries for the entity Oriental Logistics Group LTD were added under the destinations of China and Hong Kong to the Entity List on September 22, 2020 (85 FR 59421). Subsequently, the entries under Hong Kong were relocated under the destination of China on the Entity List on December 23, 2020 (85 FR 83769) with the result that the entry for Oriental Logistics Group LTD contained three addresses: one in China and two in Hong Kong, China. This rule is removing the Hong Kong address referenced above; it is not removing the entry for Oriental Logistics Group LTD under China or the second Hong Kong address for Oriental Logistics Group LTD under this entry. The ERC decided to remove the one address based on information BIS received pursuant to § 744.16(e) of the EAR and the review the ERC conducted in accordance with procedures described in supplement no. 5 to part 744 of the EAR.

This rule implements a decision of the ERC to remove “Mushko Electronics Pvt. Ltd.”, an entity located in Pakistan, from the Entity List on the basis of a removal request. The entry for Mushko Electronics Pvt. Ltd. was added to the Entity List on March 22, 2018 (83 FR 12480). The ERC decided to remove this one entity based on information BIS received pursuant to § 744.16(e) of the EAR and the review the ERC conducted in accordance with procedures described in supplement no. 5 to part 744 of the EAR.

This final rule implements the decision to remove the following two entities and one address for a non-listed entity, located in China, and Pakistan, from the Entity List:

China

• Nanchang O-Film Tech; and

• Oriental Logistics Group Ltd. (As described above, this entity is not on the Entity List, but its address is being removed from the Entity List in this rule to avoid any confusion regarding whether Oriental Logistics Group Ltd. is or is not on the Entity List.)

Pakistan

• Mushko Electronics Pvt. Ltd.

Savings Clause

For the changes being made in this final rule, shipments of items removed from eligibility for a License Exception or export, reexport, or transfer (in-country) without a license (NLR) as a result of this regulatory action that were en route aboard a carrier to a port of export, reexport, or transfer (in-country), on June 28, 2022, pursuant to actual orders for export, reexport, or transfer (in-country) to or within a foreign destination, may proceed to that destination under the previous eligibility for a License Exception or export, reexport, or transfer (in-country) without a license (NLR).

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and commodity classifications, and carries a burden estimate of 29.6 minutes for a manual or electronic submission for a total burden estimate of 33,133 hours. Total burden hours associated with the PRA and OMB control number 0694-0088 are not expected to increase as a result of this rule.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects in 15 CFR Part 744

Exports, Reporting and recordkeeping requirements, Terrorism.

Accordingly, part 744 of the Export Administration Regulations (15 CFR parts 730-774) is amended as follows:

PART 744—CONTROL POLICY: END-USER AND END-USE BASED

1. The authority citation for 15 CFR part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 15, 2021, 86 FR 52069 (September 17, 2021); Notice of November 10, 2021, 86 FR 62891 (November 12, 2021).

2. Supplement No. 4 to part 744 is amended:

a. Under BELARUS by revising the entry for “JSC Integral”;

b. Under CHINA:

i. By adding, in alphabetical order, entries for “At One Electronics,” “Beijing Highlander Digital Technology Co. Ltd,” “Blueschip Company Limited,” “Chen Zhouqian,” and “China Academy of Science—Shenyang Institute of Automation”;

ii. By removing the entry for “China National Offshore Oil Corporation Ltd.”;

iii. By adding, in alphabetical order, entries for “China State Shipbuilding Corp.—Systems Engineering Research Institute,” “Chipwinone Electronics Co., Limited,” “Chuangxinda Electronics-Tech Co.,” and “CNOOC Limited,” “Connec Electronic Ltd.,” “CSSC Electronic Technology,” “Ehang International Trade Limited,” “Gaohui HK Electronics,” “Highlander (Hong Kong) Maritime Navigation Science and Technology LLC,” and “ICSOSO Electronics Co. Ltd.,” “King Pai Technology Co., Ltd.,” and “Laurel Technologies Co. Ltd.”;

iv. By revising the entries for “National University of Defense Technology (NUDT)”; “Oriental Logistics Group LTD,”

v. By removing the entry for “Nanchang O-Film Tech”; and

vi. By adding, in alphabetical order, entries for “Sansha Highlander Marine Information Technology Co. Ltd.,” “Sanya Highlander Huanyu Ocean Information Technology Corporation,” “Shenzhen Avanlane,” “Sinno Electronics Co., Ltd.,” “Suntric Company Limited,” “Wayne Weipeng,” “Winninc Electronic,” “World Jetta (H.K.) Logistics Limited” and “Yiru Zhuang”;

c. By adding in alphabetical order a heading for Lithuania and one entry for “Sinno Electronics”;

d. Under PAKISTAN,

i. By adding, in alphabetical order, entries for “Industrial Process Automation,” “Jim Corporation,” and “Maira Trade International”;

ii. By removing the entry for “Mushko Electronics Pvt. Ltd.”; and

iii. By revising the entry for “X-Cilent Engineering”;

e. Under RUSSIA,

i. By revising the entry for “Avant-Space LLC”;

ii. By adding, in alphabetical order, entries for “Avcom-Technique,” “FASTAIR,” and “Intertech Rus LLC”;

iii. By revising the entries for “Elara”, “JSC Central Research Institute of Machine Building,” “JSC Element,” and “JSC Rocket and Space Centre”;

iv. By adding, in alphabetical order, entries for “KingPai Technology Int'l Co., Limited” and “Laboratory Systems and Technologies LTD”; and

v. By revising the entries for “Russian Space Systems (RKS)” and “Scientific Research Institute NII Submikron”;

f. Under SINGAPORE by adding, in alphabetical order, an entry for “Beijing Highlander Digital Technology Co., Ltd.”;

g. Under SLOVAKIA by revising the entry for “Incoff Aerospace, S.R.O.”;

h. Under UNITED ARAB EMIRATES by adding, in alphabetical order, entries for “Al Noor Alaili Trading Company”, “Gulf Trade House FZC,” and “Scott Technologies FZE”;

i. Under UNITED KINGDOM by adding, in alphabetical order, an entry for “Connec Electronic”;

j. By adding in alphabetical order a heading for Uzbekistan and one entry for “Promcomplektlogistic Private Company”; and

k. Under VIETNAM by adding, in alphabetical order, an entry for “KingPai Technology Int'l Co., Limited”.

The additions and revisions read as follows:

Supplement No. 4 to Part 744—Entity List

* * * * *

Country | Entity | License requirement | License review policy | Federal Register citation
* * * * * * *
BELARUS | * * * * * *
| JSC Integral, a.k.a., the following two aliases: —OAO Integral; and —Joint-Stock Company Integral—Holding Managing Company. 121A, Kazintsa I.P. Str., Minsk, 220108, Belarus; and 12 Korzhenevskogo Str., Minsk, 220108, Belarus; and 137 Brestskaya Str., Pinsk, Brest region, 225710, Belarus. | All items subject to the EAR. (See §§ 734.9(g),³ 746.8(a)(3), and 744.21(b) of the EAR). This license requirement may be overcome by License Exception GOV under § 740.11(b)(2) and (e). | Policy of denial for all items subject to the EAR apart from food and medicine designated as EAR99 and for U.S. Government supported use in the International Space Station (ISS), which will be reviewed on a case-by-case basis. See §§ 746.8(b) and 744.21(e) | 87 FR 13061, 3/8/22. 87 FR 34136, 6/6/22. 87 FR [INSERT FR PAGE NUMBER] June 30, 2022.
| * * * * * *
* * * * * * *
CHINA, PEOPLE'S REPUBLIC OF | * * * * * *
| At One Electronics, Unit 614, 6/F Block A, Po Lung Center, No. 11 Wang Chiu Road, Kowloon Bay, Kowloon, Hong Kong; and Rm. 311, 3/F, Genplas Industrial Building, 56 Hoi Yuen Rd., Kwun Tong, Kowloon, Hong Kong. | For all items subject to the EAR. (See § 744.11 of the EAR). | Presumption of Denial | 87 FR [INSERT FR PAGE NUMBER] June 30, 2022.
| * * * * * *
| Beijing Highlander Digital Technology Co. Ltd, Bldg. 10, No. 7 yard, Dijin Rd., Haidian District, Beijing, China; and C1902, SP Tower, Tsinghua Science Park, Haidian District, Beijing, China. (See alternate address under Singapore). | For all items subject to the EAR. (See § 744.11 of the EAR). | Presumption of Denial | 87 FR [INSERT FR PAGE NUMBER] June 30, 2022.
* * * * * * *
| Blueschip Company Limited, R1811 B Building, Jiahe Tower, No. 3006 Shennan Middle Road, Shenzhen, China 518031; and Room 06 Block A 23/F Hoover Ind Building, 26-38 Kwai Cheong Rd., Kwai Chung N.T., Hong Kong. | For all items subject to the EAR. (See § 744.11 of the EAR). | Presumption of Denial | 87 FR [INSERT FR PAGE NUMBER] June 30, 2022.
* * * * * * *
| Chen Zhouqian, a.k.a., the following one alias: —Zhou Qian. | For all items subject to the EAR. (See § 744.11 of the EAR). | Presumption of Denial | 87 FR [INSERT FR PAGE NUMBER] June 30, 2022.
| Room 1811, B Bldg., Jiahe Tower, No. 3006 Shennan Middle Rd., Shenzhen, China; and Room 06 Blk A 23/F Hoover Ind. Bldg., 26-38 Kwai Cheong Rd., Kwai Chung N.T., Hong Kong; and Unit 614, 6/F., Blk. A, Po Lung Ctr., No.11 Wang Chiu Road, Kowloon Bay, Kowloon, Hong Kong; and Rm. 311, 3/F, Genplas Industrial Bldg., 56 Hoi Yuen Rd., Kwun Tong, Kowloon, Hong Kong; and No. 11 Wang Chiu Road Unit 614A 6F Po Lung Centre, Hong Kong.
| * * * * * *
| China Academy of Science—Shenyang Institute of Automation, No. 114 Nanta Street, Shenyang, Liaoning, China. | For all items subject to the EAR. (See § 744.11 of the EAR). | Presumption of Denial | 87 FR [INSERT FR PAGE NUMBER] June 30, 2022.
| * * * * * *
| China State Shipbuilding Corp.—Systems Engineering Research Institute, No. 16 Cuiwei Rd., Haidian Dist, Beijing 100036; and No. 5 Yuetan North St, Xicheng Dist, Beijing. | For all items subject to the EAR. (See § 744.11 of the EAR). | Presumption of Denial | 87 FR [INSERT FR PAGE NUMBER] June 30, 2022.
| * * * * * *
| Chipwinone Electronics Co., Limited, R1618, B Building, Jiahe Tower, No. 3006 Shennan Middle Road, Shenzhen, China. | For all items subject to the EAR. (See § 744.11 of the EAR). | Presumption of Denial | 87 FR [INSERT FR PAGE NUMBER] June 30, 2022.
| * * * * * *
| Chuangxinda Electronics-Tech Co., Ltd., a.k.a., the following two aliases: —CXDA; and —Chuangxinda Electronics Company Limited. | For all items subject to the EAR. (See § 744.11 of the EAR). | Presumption of Denial | 87 FR [INSERT FR PAGE NUMBER] June 30, 2022.
| R1811 B Building, Jiahe Tower, No. 3006 Shennan Middle Road, Shenzhen, China 518031; and Unit 614, 6/F., Block A, Po Lung Ctr, No. 11 Wang Chiu Road, Kowloon Bay, Kowloon, Hong Kong; and Rm. 311, 3/F, Genplas Industrial Building 56 Hoi Yuen Road, Kwun Tong, Kowloon, Hong Kong; and No. 11 Wang Chiu Road Unit 614A 6F Po Lung Centre, Hong Kong.
| * * * * * *
| CNOOC Limited (a subsidiary of China National Offshore Oil Corporation), No. 25 Chaoyangmen North Street, Dongcheng District, Beijing, 100010, China; and 65th Floor, Bank of China Tower, 1 Garden Road, Hong Kong. | All items subject to the EAR except for: —crude oil, condensates, aromatics, natural gas liquids, hydrocarbon gas liquids, natural gas plant liquids, refined petroleum products, liquefied natural gas, natural gas, synthetic natural gas, and compressed natural gas under the following Harmonized System (HS) codes: 271111, 2711210000, 2711210000, 2709, 2709002010, 2707, 27075000, 2710, 271019, 271112, 271113, 271114, 271119, 27111990, 271311, 271312, 271012250, 2901, 290511, 2701, 29109020, 29151310, 29155020, 29156050, 29159020, 29161210, 29280025, 29321910, 29362920, 29419030, 2909300000, 2917194500, 2922504500, 2924296000, 2925294500, 2928002500, 2933194350; or | Presumption of denial | 86 FR 4864, 1/14/21. 87 FR [INSERT FR PAGE NUMBER] June 30, 2022.
|  | —items required for the continued operation of joint ventures with persons from countries in Country Group A:1 in supplement no. 1 to part 740 of the EAR not operating in any body of water, or the airspace above any body of water, within the following coordinates: Upper Left: 26°4′48.931″ N 104°31′41.383″ E Upper Right: 26°4′48.931″ N 123°19′22.225″ E Lower Right: 0°0′0.00″ N 123°19′22.225″ E Lower Left: 0°0′0.00″ N 104°31′41.383″ E
| * * * * * *
| Connec Electronic Ltd., a.k.a., the following two aliases: —Suzhou Konecot Electronics; and —Suzhou Ke Nai Ke Te Dianzi Youxian Gongsi. Room 1110, No 168, Fenjiang Road, Mudu Town, Wuzhong District, Suzhou City, China; and 5015 East Shennan Rd., Shenzhen, China; and 10/F., Flat U Valiant Industrial Centre, 2 to 12 Au Pui Wan Street, Hong Kong. (See alternate addresses under United Kingdom). | For all items subject to the EAR. (See § 744.11 of the EAR). | Policy of Denial for all items subject to the EAR apart from food and medicine designated as EAR99, which will be reviewed on a case-by-case basis | 87 FR [INSERT FR PAGE NUMBER] June 30, 2022.
| * * * * * *
| CSSC Electronic Technology, 40 South Fangcun Main Rd., Liwan District, Guangzhou, China. | For all items subject to the EAR. (See § 744.11 of the EAR). | Presumption of Denial | 87 FR [INSERT FR PAGE NUMBER] June 30, 2022.
| * * * * * *
| Ehang International Trade Limited, Flat/Room 32, 11/F Lee Ka Industrial Building 8NK Fong Street San Po Kong, Kowloon, Hong Kong. | For all items subject to the EAR. (See § 744.11 of the EAR). | Presumption of Denial | 87 FR [INSERT FR PAGE NUMBER] June 30, 2022.
| * * * * * *
| Gaohui HK Electronics, Room 1608, B Building, Jiahe Tower, No. 3006 Shennan Middle Road, Shenzhen, China 518031; and Rm. 311, 3/F, Genplas Industrial Building, 56 Hoi Yuen Road, Kwun Tong, Kowloon, Hong Kong; and Flat/Room 33 8/F, Sino Industrial Place 9 Kai Cheung Road, Kowloon, Hong Kong. | For all items subject to the EAR. (See § 744.11 of the EAR). | Presumption of Denial | 87 FR [INSERT FR PAGE NUMBER] June 30, 2022.
| * * * * * *
| Highlander (Hong Kong) Maritime Navigation Science and Technology LLC, a.k.a., the following one alias: —Highlandson (Hong Kong) Navigation Technology Co. Ltd. 48 Des Voeux Rd. Central, Hong Kong. | For all items subject to the EAR. (See § 744.11 of the EAR). | Presumption of Denial | 87 FR [INSERT FR PAGE NUMBER] June 30, 2022.
| * * * * * *
| ICSOSO Electronics Co. Ltd., a.k.a., the following one alias: —IC Soso Electronics Co. Ltd. Unit 614, 6/F, Block A, Po Lung Ctr, 11 Wang Chiu Road, Kowloon, Hong Kong; and Rm. 311, 3/F, Genplas Industrial Bldg., 56 Hoi Yuen Road, Kwun Tong, Kowloon, Hong Kong. | For all items subject to the EAR. (See § 744.11 of the EAR). | Presumption of Denial | 87 FR [INSERT FR PAGE NUMBER] June 30, 2022.
| * * * * * *
| King Pai Technology Co., Ltd., a.k.a., the following four aliases: —King-Pai Technology (HK) Co., Limited; —KingPai Technology Int'l Co., Limited; —KingPai Technology Group Co., Limited; and —Jinpai Technology (Hong Kong) Co., Ltd. | For all items subject to the EAR. (See § 744.11 of the EAR). | Policy of Denial for all items subject to the EAR apart from food and medicine designated as EAR99, which will be reviewed on a case-by-case basis | 87 FR [INSERT FR PAGE NUMBER] June 30, 2022.
| No 13 4/F., Flourish Industrial Building, No. 33 Sheung Yee Road, Kowloon Bay, Kowloon, Hong Kong; and 1488E, Block A, Shenfang Building, Huaqiang North Road, Futian District, Shenzhen, China; and Room 804, Block A, Shenfang Building, Huaqiang North Road, Futian District, Shenzhen, China; and Room 1508, Block A, Shenfang Building, Huaqiang North Road, Futian District, Shenzhen, China; and Room 1509, Block A, Shenfang Building, Huaqiang North Road, Futian District, Shenzhen, China; and Room 1805, Poly Tianyue Center, 332 Gaoxin Guanshan Avenue, East Lake, Wuhan, China; and 908 International Finance Building, No 633, Keji 2nd Street, Songbei District, Harbin, Heilongjiang, China. (See alternate addresses under Russia and Vietnam).
| * * * * * *
| Laurel Technologies Co. Ltd., a.k.a., the following one alias: —Laurel Industrial Co. Suite 1807-1810, KunTai International Mansion, No. 12 B, Chaowai St., Beijing, 100020, China. | For all items subject to the EAR. (See § 744.11 of the EAR). | Presumption of Denial | 87 FR [INSERT FR PAGE NUMBER] June 30, 2022.
| * * * * * *
| National University of Defense Technology (NUDT), a.k.a., the following three aliases: —Central South CAD Center; —CSCC; and —Hunan Guofang Keji University. | For all items subject to the EAR. (See § 744.11 of the EAR). | Presumption of denial | 80 FR 8527, 2/18/15. 84 FR 29373, 6/24/19, 87 FR [INSERT FR PAGE NUMBER] June 30, 2022.
| Garden Road (Metro West), Changsha City, Kaifu District, Hunan Province, China; and 109 Deya Road, Kaifu District, Changsha City, Hunan Province, China; and 47 Deya Road, Kaifu District, Changsha City, Hunan Province, China; and 147 Deya Road, Kaifu District, Changsha City, Hunan Province, China; and 47 Yanwachi, Kaifu District, Changsha, Hunan, China; and Wonderful Plaza, Sanyi Avenue, Kaifu District, Changsha, China; and No. 54 Beiya Road, Changsha, China; and No. 54 Deya Road, Changsha, China.
| * * * * * *
| Oriental Logistics Group LTD, a.k.a., the following one alias: —Oriental Air Transport Service Ltd. Room 2114, 21/F., Shenhua Commercial, Bldg., No. 2018 Jiabin Rd., Luo Hu District, Shenzhen, China 418001; and Unit B, 10th Floor, United Overseas Plaza, No. 11, Lai Yip Street, Kwun Tong, Kowloon, Hong Kong. | All items subject to the EAR. (See § 744.11 of the EAR). | Presumption of Denial | 85 FR 59421, 9/22/20. 85 FR 83769, 12/23/20. 87 FR [INSERT FR PAGE NUMBER] June 30, 2022.
| * * * * * *
| Sansha Highlander Marine Information Technology Co. Ltd., a.k.a., the following two aliases: —Sansha Highlander Ocean Information Science and Technology Co. Ltd.; and —Sansha Highlander Ocean Information Technology Co. Ltd. | For all items subject to the EAR. (See § 744.11 of the EAR). | Presumption of Denial | 87 FR [INSERT FR PAGE NUMBER] June 30, 2022.
| Sansha City, Hainan Province, China.
| Sanya Highlander Huanyu Ocean Information Technology Corporation, a.k.a., the following one alias: —Sanya Highlander Information Technology Co. Ltd. C1902, SP Tower, Tsinghua Science Park, Beijing, China 100084. | For all items subject to the EAR. (See § 744.11 of the EAR). | Presumption of Denial | 87 FR [INSERT FR PAGE NUMBER] June 30, 2022.
| * * * * * *
| Shenzhen Avanlane, a.k.a., the following one alias: —Avanlane Inc. Unit C, D 10/F Shenmao Building News Road, Shenzhen, China; and Rm. 311, 3/F, Genplas Industrial Building, 56 Hoi Yuen Road, Kwun Tong, Kowloon, Hong Kong; and 62459-4F East Asia Industrial Building, 2 Ho Tin Street, Tuen Mun, N.T., Hong Kong. | For all items subject to the EAR. (See § 744.11 of the EAR). | Presumption of Denial | 87 FR [INSERT FR PAGE NUMBER] June 30, 2022.
| * * * * * *
| Sinno Electronics Co., Ltd., a.k.a., the following one alias: —Xinnuo Electronic Technology. Rm. 2408 Dynamic World Building, Zhonghang Rd., Futian District, Shenzhen, China; and Rm. 10905 Xingda Garden Building, Kaiyuan Rod, Xingsha Development Area, Changsha, China; and Rm. B22, 1F, Block B East Sun Industrial Centre, 16 Shing Yip Street, Kwun Tong, Kowloon, Hong Kong. (See alternate address under Lithuania). | For all items subject to the EAR. (See § 744.11 of the EAR). | Policy of Denial for all items subject to the EAR apart from food and medicine designated as EAR99, which will be reviewed on a case-by-case basis | 87 FR [INSERT FR PAGE NUMBER] June 30, 2022.
| * * * * * *
| Suntric Company Limited, a.k.a., the following one alias: —IC.CN Company Limited. Rm. 311, 3/F, Genplas Industrial Building 56 Hoi Yuen Road, Kwun Tong, Kowloon, Hong Kong; and Unit C, D 10/F Shenmao Building News Road, Shenzhen, China; and Room 2113-2115, Level 21 Landmark North, 39 Lung Sum Avenue, Sheung Shui, Hong Kong. | For all items subject to the EAR. (See § 744.11 of the EAR). | Presumption of Denial | 87 FR [INSERT FR PAGE NUMBER] June 30, 2022.
| * * * * * *
| Wayne Weipeng, the following one alias: —Wang Wayne. | For all items subject to the EAR (See § 744.11 of the EAR). | Presumption of Denial | 87 FR [INSERT FR PAGE NUMBER] June 30, 2022.
| Room 1811, B Bldg., Jiahe Tower, No. 3006 Shennan Middle Rd., Shenzhen, China; and Room 1608, B Bldg., Jiahe Tower, No. 3006 Shennan Middle Road, Shenzhen China 518031; and Unit C, D 10/F Shenmao Building News Road, Shenzhen, China; and Rm. 311, 3/F, Genplas Industrial Bldg., 56 Hoi Yuen Rd., Kwun Tong, Kowloon, Hong Kong; and Room 06 Blk A 23/F Hoover Ind. Bldg., 26-38 Kwai Cheong Rd., Kwai Chung N.T., Hong Kong; and Unit 614, 6/F., Blk. A, Po Lung Ctr., No. 11 Wang Chiu Road, Kowloon Bay, Kowloon, Hong Kong; and No. 11 Wang Chiu Road Unit 614A 6F Po Lung Centre, Hong Kong; and Flat/Rm32, 11/F Lee Ka Industrial Building 8NK Fong Street San Po Kong, Kowloon, Hong Kong; and Flat/Room 33 8/F Sino Industrial Place 9 Kai Cheung Road, Kowloon, Hong Kong; and 62459-4F East Asia Industrial Building, 2 Ho Tin Street, Tuen Mun, N.T., Hong Kong.
| * * * * * *
| Winninc Electronic, Gaokede Building, Huaqiang North, Shenzhen, China; and 1203 High Technology Building, Guangbutun Wuchang District, Wuhan, China; and #4 Dong Aocheng 1618, Nanshan District, Shenzhen, China; and 2818 Glittery City Shennan Middle Road, Shenzhen, China; and Unit 01 & 03, 1/F Lai Sun Yuen Long, No. 27 Wang Yip Street East, Yuen Long, N.T., Hong Kong; and Unit 04, 8/F Bright Way Tower No. 33 Mong Kok Rd. Konglong, Hong Kong. | For all items subject to the EAR (See § 744.11 of the EAR). | Policy of Denial for all items subject to the EAR apart from food and medicine designated as EAR99, which will be reviewed on a case-by-case basis | 87 FR [INSERT FR PAGE NUMBER] June 30, 2022.
| * * * * * *
| World Jetta (H.K.) Logistics Limited, a.k.a., the following one alias: —Hong Kong Shijieda Logistics. 1017 Building B Jiahe Huangqiang Block, Futian District, Shenzhen, China. | For all items subject to the EAR (See § 744.11 of the EAR). | Policy of Denial for all items subject to the EAR apart from food and medicine designated as EAR99, which will be reviewed on a case-by-case basis | 87 FR [INSERT FR PAGE NUMBER] June 30, 2022.
| * * * * * *
| Yiru Zhuang, Room 1811, B Bldg., Jiahe Tower, No. 3006 Shennan Middle Rd., Shenzhen, China; and Room 06 Blk A 23/F Hoover Ind. Bldg., 26-38 Kwai Cheong Rd., Kwai Chung N.T., Hong Kong; and Unit 614, 6/F., Blk A, Po Lung Ctr., No.11 Wang Chiu Road, Kowloon Bay, Kowloon, Hong Kong; and Rm. 311, 3/F, Genplas Industrial Bldg., 56 Hoi Yuen Rd., Kwun Tong, Kowloon, Hong Kong; and No. 11 Wang Chiu Road Unit 614A 6F Po Lung Centre, Hong Kong. | For all items subject to the EAR. (See § 744.11 of the EAR). | Presumption of Denial | 87 FR [INSERT FR PAGE NUMBER] June 30, 2022.
| * * * * * *
* * * * * * *
LITHUANIA | Sinno Electronics, Kirtimu G 41, Vilnius, Lithuania. (See alternate address under China). | For all items subject to the EAR. (See § 744.11 of the EAR). | Policy of Denial for all items subject to the EAR apart from food and medicine designated as EAR99, which will be reviewed on a case-by-case basis | 87 FR [INSERT FR PAGE NUMBER] June 30, 2022.
* * * * * * *
PAKISTAN | * * * * * *
| Industrial Process Automation, No. 12, 11 Nishter Road, Lahore, Pakistan. | For all items subject to the EAR. (See § 744.11 of the EAR). | Presumption of Denial | 87 FR [INSERT FR PAGE NUMBER] June 30, 2022.
| * * * * * *
| Jim Corporation, 11 Nishter Road, Lahore, Pakistan; and No. 521, Executive Office, Plot No. 23, Hilal Road, F-11/1, Islamabad, Pakistan. | For all items subject to the EAR. (See § 744.11 of the EAR). | Presumption of Denial | 87 FR [INSERT FR PAGE NUMBER] June 30, 2022.
| * * * * * *
| Maira Trade International, No. 1 Rahman Street, Office No. 15, Nishter Road, Lahore; and No. 1 Rahman Street, Office No. 15, Brandeth Road, Lahore; and No. 521, Executive Office, Plot No. 23, Hilal Road, F-11/1, Islamabad, Pakistan. | For all items subject to the EAR. (See § 744.11 of the EAR). | Presumption of Denial | 87 FR [INSERT FR PAGE NUMBER] June 30, 2022.
| * * * * * *
| X-Cilent Engineering, 642, Afshan Colony, Rawalpindi Cantt, 46000, Pakistan. | For all items subject to the EAR. (See § 744.11 of the EAR). | See § 744.2(d) of the EAR | 87 FR 8182, 2/14/22. 87 FR [INSERT FR PAGE NUMBER] June 30, 2022.
* * * * * * *
RUSSIA | * * * * * *
| Avant-Space LLC, a.k.a., the following four aliases: —AVANT-SPEIS; —Avant Space Systems; —Avant Space Propulsion Systems; and —OOO Avant-Spejs. 4/7 Lugovaya Street, Skolkovo Innovation Center, Moscow, Russia, 143026; and 42 Bolshoy Bulvar, Skolkovo, Moscow, Russia, 143026; and 12 Presnenskaya Embankment, Moscow, Russia, 123112. | For all items subject to the EAR. (See § 744.11 of the EAR). | Policy of Denial. Case-by-case basis for items for U.S. Government supported use in the International Space Station (ISS) | 87 FR 13143, 3/9/22. 87 FR [INSERT FR PAGE NUMBER] June 30, 2022.
| Avcom-Technique, a.k.a., the following four aliases: —Avcom Group; —Avcom-Technique Ltd; —AVCOM-D; and —OOO Avkom Tekhnik. | For all items subject to the EAR. (See § 744.11 of the EAR). | Case-by-case review | 87 FR [INSERT FR PAGE NUMBER] June 30, 2022.
| Airport Ramenskoe (Zhukovsky), Narkomvod Street 7, Russia; and Moscow Region, Zhukovsky City, Narkomvod Street, 7, Russia; and Room 5, 95B Kashirskoe Highway, Domodedovo, Moscow Region, 142004, Russia; and Pom. 5, D. 95B, Kashirskoe Shosse, Domodedovo, Moskovskaya Region, 142004, Russia.
| * * * * * *
| Elara, a.k.a., the following one alias: —Joint Stock Company Scientific and Production Complex Elara named after G.A. Illienko. 40 Moskovsky Avenue, Chuvash Republic, 428017; and 7 Obraztsova Street, Moscow, Russia, 428020. | For all items subject to the EAR. (See § 744.11 of the EAR). | Policy of denial; Case-by-case basis for items for U.S. Government supported use in the International Space Station (ISS) | 87 FR 13143, 3/9/22. 87 FR [INSERT FR PAGE NUMBER] June 30, 2022.
| * * * * * *
| FASTAIR, a.k.a., the following five aliases: —LLC Fastair International; —Fast Air International; —Fast Air; —OOO Fasteir Interneshnl; and —OOO Fasteir. 121471, 14, Ryabinovaya Street, Moscow Russia; and 121471, 14, Rainovaya Street, Office 511, Moscow, Russia; and Rabinovaya Street, 14, Moscow, Russia. | For all items subject to the EAR. (See § 744.11 of the EAR). | Case-by-case review | 87 FR [INSERT FR PAGE NUMBER] June 30, 2022.
| * * * * * *
| Intertech Rus LLC, a.k.a., the following one alias: —Intertek Rus OOO. 8, 2nd Brestskaya str., 10th Floor 125047, Moscow Russia; and d. 27 str. 2 etazh/pom./kom. 2/IV/1-3,5-25, ul. Elektrozavodskaya Moscow, 107023 Russian Federation; and d. 3 str. 2 pom. 506 kom. 69, ul. Krymski Val Moscow, 119049 Russian Federation. | For all items subject to the EAR. (See § 744.11 of the EAR). | See §§ 744.2(d), 744.3(d), and 744.4(d) | 87 FR [INSERT FR PAGE NUMBER] June 30, 2022.
| * * * * * *
| JSC Central Research Institute of Machine Building (JSC TsNIIMash), Pionerskaya Street, 4, korpus 22, Moskovskaya obl., Korolov 141070, Russia. | All items subject to the EAR. (See §§ 734.9(g),³ 746.8(a)(3), and 744.21(b) of the EAR). This license requirement may be overcome by License Exception GOV under § 740.11(b)(2) and (e). | Policy of denial for all items subject to the EAR apart from food and medicine designated as EAR99 and for items for U.S. Government supported use in the International Space Station (ISS), which will be reviewed on a case-by-case basis. See §§ 746.8(b) and 744.21(e) | 87 FR 12240, 3/3/22. 87 FR 13061, 3/8/22. 87 FR 34136, 6/6/22. 87 FR [INSERT FR PAGE NUMBER] June 30, 2022.
| JSC Element, 12 Presnenskaya Embankment, Office 2024, Moscow, Russia, 123112. | For all items subject to the EAR. (See § 744.11 of the EAR). This license requirement may be overcome by License Exception GOV under § 740.11(b)(2) and (e). | Policy of denial; Case-by-case basis for items for U.S. Government supported use in the International Space Station (ISS) | 87 FR 13143, 3/9/22. 87 FR [INSERT FR PAGE NUMBER] June 30, 2022.
| * * * * * *
| JSC Rocket and Space Centre—Progress, Zemetsa Street 18, Samarskaya Oblast, Samara 443009, Russia. | All items subject to the EAR. See §§ 734.9(g),³ 746.8(a)(3), and 744.21(b) of the EAR). This license requirement may be overcome by License Exception GOV under § 740.11(b)(2) and (e). | Policy of denial for all items subject to the EAR apart from food and medicine designated as EAR99 and for items for U.S. Government supported use in the International Space Station (ISS), which will be reviewed on a case-by-case basis. See §§ 746.8(b) and 744.21(e) | 87 FR 12240, 3/3/22. 87 FR 34136, 6/6/22. 87 FR [INSERT FR PAGE NUMBER] June 30, 2022.
| * * * * * *
| KingPai Technology Int'l Co., Limited, 3 Gostnichnaya St, Moscow, Russia. (See alternate addresses under China and Vietnam). | For all items subject to the EAR. (See § 744.11). | Policy of Denial for all items subject to the EAR apart from food and medicine designated as EAR99, which will be reviewed on a case-by-case basis | 87 FR [INSERT FR PAGE NUMBER] June 30, 2022.
| * * * * * *
| Laboratory Systems and Technologies LTD, a.k.a., the following one alias: —LST LTD. Burdenko St., 14 Bld. A 4 Stage, Office 1 Room 3, 119121, Moscow Russia. | For all items subject to the EAR. (See § 744.11). | See §§ 744.2(d), 744.3(d), and 744.4(d) | 87 FR [INSERT FR PAGE NUMBER] June 30, 2022.
| * * * * * *
| Russian Space Systems (RKS), 222 Sosnovaya, Tsiolkovski, Amurskaya Oblast, Russia, 676470; and 53G Aviamotornaya, Moscow, Russia, 111024; and 51 Dekabristov, Moscow, Russia, 127490. | For all items subject to the EAR. (See § 744.11 of the EAR). This license requirement may be overcome by License Exception GOV under § 740.11(b)(2) and (e). | Policy of denial; Case-by-case basis for items for U.S. Government supported use in the International Space Station (ISS) | 87 FR 13143, 3/9/22. 87 FR [INSERT FR PAGE NUMBER] June 30, 2022.
| * * * * * *
| Scientific Research Institute NII Submikron, 5 Street 2, Proskpekt Georgievski, Zelenograd, Moscow, Russia, 124498. | For all items subject to the EAR. (See § 744.11 of the EAR). | Policy of denial; Case-by-case basis for items for U.S. Government supported use in the International Space Station (ISS) | 87 FR 13143, 3/9/22. 87 FR [INSERT FR PAGE NUMBER] June 30, 2022.
| * * * * * *
* * * * * * *
SINGAPORE | * * * * * *
| Beijing Highlander Digital Technology Co., Ltd., 1 Sunview Rd., #08-43, Singapore 627615. (See alternate address under China). | For all items subject to the EAR. (See § 744.11 of the EAR). | Presumption of Denial | 87 FR [INSERT FR PAGE NUMBER] June 30, 2022.
| * * * * * *
SLOVAKIA | Incoff Aerospace S.R.O., a.k.a., the following one alias: —Incoff Group Polianky 3327/5 Bratislava—Mestska Cast Dubravka; Bratislavsky, 84101, Slovakia. | For all items subject to the EAR. (See § 744.11 of the EAR). This license requirement may be overcome by License Exception GOV under § 740.11(b)(2) and (e). | Policy of denial; Case-by-case basis for items for U.S. Government supported use in the International Space Station (ISS) | 87 FR 13143, 3/9/22. 87 FR [INSERT FR PAGE NUMBER] June 30, 2022.
| * * * * * *
UNITED ARAB EMIRATES | * * * * * *
| Al Noor Alaili Trading Company, a.k.a., the following one alias: —ANATCO. Floor No. 37, Office No. 3706, Latifa Tower, Community Trade Center First, Sheikh Zayed Road, P.O. Box: 40118, Dubai, United Arab Emirates; and Office number 3706, Floor number 37, Latifa Tower, Community Trade Center First, Sheikh Zayed Road, Dubai, Dubai, United Arab Emirates; and PO Box 40118, Dubai, United Arab Emirates; and 40118, Deira, Nakheel Road, Dubai, United Arab Emirates. | For all items subject to the EAR. (See § 744.11 of the EAR). | Presumption of Denial | 87 FR [INSERT FR PAGE NUMBER] June 30, 2022.
| * * * * * *
| Gulf Trade House FZC, P.O. Box Number 121463, Sharjah, UAE; and Office 75C, Q1-07, Block Q1 Street, Sharjah, UAE. | For all items subject to the EAR. (See § 744.11 of the EAR). | Presumption of Denial | 87 FR [INSERT FR PAGE NUMBER] June 30, 2022.
| * * * * * *
| Scott Technologies FZE, a.k.a., the following one alias: —Scot Technologies. P.O. Box 121723, SAIF Zone, Sharjah, UAE; and #R5-06C, Sharjah Airport Free Zone (SAIF), Sharjah, UAE; and Flat No. 201, Block 8, Muwaileh Sharjah, UAE; and Dimas Building, Block 8, 201 Muwaileh Sharjah, UAE; and B Block 301-302, Al Hudaiba Awards Building, Dubai Investment Park, Dubai, UAE. | For all items subject to the EAR. (See § 744.11 of the EAR). | Presumption of Denial | 87 FR [INSERT FR PAGE NUMBER] June 30, 2022.
| * * * * * *
UNITED KINGDOM | * * * * * *
| Connec Electronic, 36 Gerrard Street, London, England, United Kingdom; and 38 John Ashby Close, London, England, United Kingdom. (See alternate addresses under China). | For all items subject to the EAR. (See § 744.11 of the EAR). | Policy of Denial for all items subject to the EAR apart from food and medicine designated as EAR99, which will be reviewed on a case-by-case basis | 87 FR [INSERT FR PAGE NUMBER] June 30, 2022.
| * * * * * *
UZBEKISTAN | Promcomplektlogistic Private Company, a.k.a., the following one alias: —Private Enterprise Promcomplektlogistic. 16 A Navoi St, Shaykhantakhur Region, Tashkent, Uzbekistan. | For all items subject to the EAR. (See § 744.11 of the EAR). | Policy of Denial for all items subject to the EAR apart from food and medicine designated as EAR99, which will be reviewed on a case-by-case basis | 87 FR [INSERT FR PAGE NUMBER] June 30, 2022.
VIETNAM | * * * * * *
| KingPai Technology Int'l Co., Limited, 143-6th Street, 1 Town, Linh Xuan Ward, Thu Duc District, Ho Chi Minh City, Vietnam. (See alternate addresses under China and Russia). | For all items subject to the EAR. (See § 744.11 of the EAR). | Policy of Denial for all items subject to the EAR apart from food and medicine designated as EAR99, which will be reviewed on a case-by-case basis | 87 FR [INSERT FR PAGE NUMBER] June 30, 2022.

* * * * *

Matthew S. Borman,
Deputy Assistant Secretary for Export Administration.

[FR Doc. 2022-14069 Filed 6-28-22; 11:15 am]

BILLING CODE 3510-33-P